DEPARTMENT OF TRANSPORTATION

Federal Aviation Administration

14 CFR Part 39

[Docket No. FAA-2008-0224; Directorate Identifier 2007-NE-44-AD]

RIN 2120-AA64

Airworthiness Directives; Rolls-Royce Deutschland Ltd & Co KG (RRD) Turbofan Engines

AGENCY: Federal Aviation Administration (FAA), DOT.

ACTION: Notice of proposed rulemaking (NPRM); rescission.

SUMMARY: We propose to rescind an airworthiness directive (AD) for RRD BR700-715A1-30, BR700-715B1-30, and BR700-715C1-30 turbofan engines. The existing AD resulted from the need to reduce the published life limits of high-pressure (HP) turbine stage 1 discs, part numbers (P/Ns) BRH20130 and BRH20131, and HP turbine stage 2 discs, P/Ns BRH19423 and BRH19427.

Since we issued the existing AD, RRD has revised the approved published life limits of these parts to the same or higher limits as originally certified.

DATES: We must receive comments on this proposed AD by April 23, 2012.

ADDRESSES: You may send comments by any of the following methods:

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone: 800-647-5527) is the same as the Mail address provided in the ADDRESSES section. Comments will be available in the AD docket shortly after receipt.

FOR FURTHER INFORMATION CONTACT: Mark Riley, Aerospace Engineer, Engine Certification Office, FAA, Engine & Propeller Directorate, 12 New England Executive Park, Burlington, MA 01803; phone: 781-238-7758; fax: 781-238-7199; email: mark.riley@faa.gov.

SUPPLEMENTARY INFORMATION:

Comments Invited

We invite you to send any written relevant data, views, or arguments about this proposed AD rescission. Send your comments to an address listed under the ADDRESSES section. Include “Docket No. FAA-2008-0224; Directorate Identifier 2007-NE-44-AD” at the beginning of your comments. We specifically invite comments on the overall regulatory, economic, environmental, and energy aspects of this proposed AD rescission. We will consider all comments received by the closing date and may amend this proposed AD rescission based on those comments.

We will post all comments we receive, without change, to http://www.regulations.gov, including any personal information you provide. We will also post a report summarizing each substantive verbal contact with FAA personnel concerning this proposed AD rescission. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

On March 17, 2009, we issued AD 2009-07-01 (74 FR 12086, March 23, 2009). That AD requires reducing the published life limits of BR700-715 turbofan engine HP turbine stage 1 discs, P/Ns BRH20130 and BRH20131, and HP turbine stage 2 discs, P/Ns BRH19423 and BRH19427.

Since we issued AD 2009-07-01 (74 FR 12086, March 23, 2009), RRD has revised the approved published life limits of these HP turbine stage 1 discs to the same or higher limits as originally certified. The European Aviation Safety Agency (EASA), which is the Technical Agent for the Member States of the European Community, has issued EASA Airworthiness Directive Cancellation Notice 2007-0152-CN, dated December 22, 2011. EASA stated in that Cancellation Notice that they have approved published life limits for the affected parts that are increased to the same or higher value as originally certified. We have evaluated the information provided by RRD and EASA and have determined that an unsafe condition no longer exists in these HP turbine stage 1 and stage 2 discs.

FAA's Determination and Requirements of This Proposed AD Rescission

We are proposing this AD rescission of AD 2009-07-01 (74 FR 12086, March 23, 2009) because we evaluated all information and determined that allowing the increase in the published part life limits is acceptable. This proposed AD would rescind AD 2009-07-01.

Authority for This Rulemaking

Title 49 of the United States Code specifies the FAA's authority to issue rules on aviation safety. Subtitle I, Section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses a practice, method, or procedure necessary for safety in air commerce.

Regulatory Findings

We determined that this proposed AD rescission would not have federalism implications under Executive Order 13132. This proposed AD rescission would not have a substantial direct effect on the States, on the relationship between the national Government and the States, or on the distribution of power and responsibilities among the various levels of government.

For the reasons discussed above, I certify this proposed rescission of a regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD rescission and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by rescinding airworthiness directive (AD) 2009-07-01, Amendment 39-15860 (74 FR 12086, March 23, 2009):

Rolls-Royce Deutschland Ltd & Co KG (formerly BMW Rolls-Royce GmbH, formerly BMW Rolls-Royce Aero Engines): Docket No. FAA-2008-0224; Directorate Identifier 2007-NE-44-AD.

(a) Comments Due Date

We must receive comments by April 23, 2012.

(b) Affected ADs

This AD rescinds AD 2009-07-01 (74 FR 12086, March 23, 2009).

(c) Applicability

This AD applies to Rolls-Royce Deutschland Ltd & Co KG BR700-715A1-30, BR700-715B1-30, and BR700-715C1-30 turbofan engines.

Issued in Burlington, Massachusetts, on February 10, 2012.
Peter A. White,
Manager, Engine & Propeller Directorate, Aircraft Certification Service.

[FR Doc. 2012-3864 Filed 2-17-12; 8:45 am]

BILLING CODE 4910-13-P